DEPARTMENT OF THE INTERIOR

Bureau of Land Management

[LLWY925000.L13400000.PQ0000 20X]

Notice of Intent To Prepare Resource Management Plan Amendments for 9 BLM-Wyoming Resource Management Plans and an Associated Environmental Impact Statement

AGENCY: Bureau of Land Management, Interior.

ACTION: Notice of intent.

SUMMARY: In compliance with the National Environmental Policy Act (NEPA) of 1969, as amended, and the Federal Land Policy and Management Act (FLPMA) of 1976, as amended, the Bureau of Land Management (BLM) intends to prepare an Environmental Impact Statement (EIS) to analyze potential Resource Management Plan (RMP) amendments for BLM Wyoming's Cody, Worland, Buffalo, Casper, Lander, Pinedale, Kemmerer, Rawlins and Rock Springs field offices. The proposed amendments would designate pipeline corridors as part of the Wyoming Pipeline Corridor Initiative (WPCI) proposed by the State of Wyoming. By this notice, the BLM is announcing the beginning of the scoping process to solicit public comments and identify issues.

DATES: Comments on the RMP amendments and associated EIS may be submitted in writing until December 16, 2019. The date(s) and location(s) of any scoping meetings will be announced at least 15 days in advance through local media, newspapers and the BLM website at https://go.usa.gov/xpCMr. To ensure the BLM can adequately consider and incorporate all comments, please submit written comments prior to the close of the 30-day scoping period or 15 days after the last public meeting, whichever is later. The BLM will provide additional opportunities for public participation upon publication of the Draft EIS.

ADDRESSES: You may submit comments on issues and planning criteria related to the EIS during public scoping meetings or on the WPCI ePlanning website at https://go.usa.gov/xpCMr.

Documents pertinent to this proposal may be examined in person at the BLM Wyoming State Office, 5353 Yellowstone Road, Cheyenne, WY 82009.

FOR FURTHER INFORMATION CONTACT: Heather Schultz, Project Manager, telephone: 307-775-6084; address: 5353 Yellowstone Road, Cheyenne, Wyoming; email: hschultz@blm.gov. Contact Ms. Schultz to be added to the WPCI mailing list. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The State of Wyoming is proposing a pipeline corridor network for carbon capture, utilization, and storage (CCUS) and enhanced oil recovery (EOR) to be designated on BLM-managed lands in Wyoming through the land use planning process. The State of Wyoming proposes that 2,000 miles and 25 segments of pipeline corridors be designated on BLM-managed lands and in those lands' associated RMPs. The proposed WPCI corridors are divided into segments based on proposed width and the regions they will service.

The BLM plans to analyze the State's proposal by preparing an EIS. Based on the findings of the EIS process, the BLM may amend the nine RMPs containing lands proposed for pipeline corridors to designate those corridors. If the BLM were to receive a right-of-way application for CCUS and EOR pipelines or related facilities in the future, project-specific NEPA would be completed separately at that time. The purpose of this public scoping process is to determine relevant issues that will influence the scope of the environmental analysis, including alternatives, and guide the planning process. BLM and State of Wyoming personnel have identified preliminary issues to address within the planning area, including Greater Sage-Grouse; big game habitat (including migration corridors); potential conflicts with coal mining and other resource uses; air quality; transportation; vegetation and reclamation success; anticipated oil and gas development in the planning area; and opportunities to apply best management practices and design features.

The BLM also seeks input on planning criteria, which include compliance with laws and regulations and integration into affected plans. The BLM has identified the following preliminary planning criteria:

• The planning and environmental review processes will comply with FLPMA, the Endangered Species Act, the Clean Water Act, and all other applicable laws, regulations, and policies.

• Valid existing rights will continue to be recognized.

• The BLM will continue to manage other resources in the planning areas under pre-existing terms, conditions, and decisions in the applicable RMPs.

• The BLM will coordinate with Federal, State, and local agencies and tribal governments in the development of the EIS.

• Any amendments to BLM RMPs will be consistent with the existing plans and policies of state and local governments, to the extent practicable.

Please follow the procedures identified above to submit comments on issues and planning criteria. Before including your address, phone number, email address, or other personal identifying information in your comment, you should be aware that your entire comment—including your personal identifying information—may be made publicly available at any time. While you can ask us in your comment to withhold your personal identifying information from public review, we cannot guarantee that we will be able to do so. The BLM will evaluate identified issues to be addressed in the plan, and will place them into one of three categories:

1. Issues to be resolved in the plan;

2. Issues to be resolved through policy or administrative action; or

3. Issues beyond the scope of this plan.

The BLM will provide an explanation in the Draft RMP/Draft EIS as to why an issue was placed in category 2 or 3. The public is also encouraged to help identify any management questions and concerns that should be addressed in the plan. The BLM will work collaboratively with interested parties to identify the management decisions that are best suited to local, regional, and national needs and concerns.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will use an interdisciplinary approach to develop the plan in order to consider the variety of resource issues and concerns identified. Specialists with expertise in the following disciplines will be involved in the planning process: Rangeland management, minerals and geology, forestry, outdoor recreation, archaeology, paleontology, wildlife and fisheries, lands and realty, hydrology, soils, sociology, and economics.

Authority: 40 CFR 1501.7, 43 CFR 1610.2.

Duane Spencer,
Acting State Director.

[FR Doc. 2019-24752 Filed 11-14-19; 8:45 am]

BILLING CODE 4310-22-P